DEPARTMENT OF HEALTH AND HUMAN SERVICES

Administration for Community Living

Administration on Intellectual and Developmental Disabilities, President's Committee for People With Intellectual Disabilities

AGENCY: Administration for Community Living, HHS.

ACTION: Notice.

SUMMARY: The President's Committee for People with Intellectual Disabilities (PCPID) will host a webinar/conference call for its members to discuss the potential topics of the Committee's 2019 Report to the President. All the PCPID meetings, in any format, are open to the public. This virtual meeting will be conducted in a discussion format.

DATES:

Webinar/Conference Call: Monday, March 4, 2019 from 11:00 a.m. to 12:30 p.m. (EST).

Agenda: The Committee will discuss the preparation of the PCPID 2019 Report to the President, including its content and format, and related data collection and analysis required to complete the writing of the Report.

Additional Information: For further information and accommodations needs, please contact Ms. Allison Cruz, Director, Office of Innovation, 330 C Street, SW, Switzer Building, Room 1114, Washington, DC 20201. Telephone: 202-795-7334. Fax: 202-795-7334. Email: allison.cruz@acl.hhs.gov

Supplemental Information: The purpose of this virtual meeting is to discuss the Committee's preparation of the 2019 Report to the President, including its content and format, and related data collection and analysis required to complete the writing of the Report.

Webinar/Conference Call: The webinar/conference call is scheduled for Monday, March 4, 2019 from 11:00 a.m. to 12:30 p.m. (EST) and may end early if discussions are finished.

Instructions to Participate in the Webinar/Conference Call on Monday, March 4, 2019: Please dial: (888) 949-2790; Pass Code: 1989852.

Background Information on the Committee: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) Expanding employment opportunities; (B) connecting people to services; (C) supporting families and caregivers; (D) strengthening the networks; and (E) protecting rights and preventing abuse.

Dated: February 4, 2018.
Julie Hocker,
Commissioner, Administration on Disabilities (AoD).

[FR Doc. 2019-01698 Filed 2-7-19; 8:45 am]

BILLING CODE 4154-01-P